DEPARTMENT OF DEFENSE

Office of the Secretary

[Docket ID: DoD-2019-OS-0063]

Submission for OMB Review; Comment Request

AGENCY: Office of the Under Secretary of Defense for Research and Engineering, DoD.

ACTION: 30-Day information collection notice.

SUMMARY: The Department of Defense has submitted to OMB for clearance the following proposal for collection of information under the provisions of the Paperwork Reduction Act.

DATES: Consideration will be given to all comments received by August 28, 2019.

ADDRESSES: Comments and recommendations on the proposed information collection should be emailed to Ms. Jasmeet Seehra, DoD Desk Officer, at oira_submission@omb.eop.gov. Please identify the proposed information collection by DoD Desk Officer, Docket ID number, and title of the information collection.

FOR FURTHER INFORMATION CONTACT: Angela James, 571-372-7574, or whs.mc-alex.esd.mbx.dd-dod-information-collections@mail.mil.

SUPPLEMENTARY INFORMATION:

Title; Associated Form; and OMB Number: Science, Mathematics and Research for Transformation (SMART) Scholarship Program; DD forms 3067-1,3067-2, 3067-3, 3067-4, 3067-5, 3067-6, 3067-7, 3067-8, 3067-9, 3067-10, 3067-11, 3067-12, 3067-13, 3067-14, 3067-15; OMB Control Number 0704-0466.

Type of Request: Extension.

Smart Application (Online).

Number of Respondents: 2,800.

Responses per Respondent: 1.

Annual Responses: 2,800.

Average Burden per Response: 8 hours.

Annual Burden Hours: 22,400 hours.

Smart Service Agreement/Handbook Packages (DD-3067-2, DD-3067-6, DD-3067-12)

Number of Respondents: 250.

Responses per Respondent: 1.

Annual Responses: 250.

Average Burden per Response: 5.5 hours.

Annual Burden Hours: 1,375 hours.

DD-3067-7—Smart Phase 1 Annual Report

Number of Respondents: 850.

Responses per Respondent: 1.

Annual Responses: 850.

Average Burden per Response: 4 hours.

Annual Burden Hours: 3,400 hours.

Award Change Requests (DD-3067-1, DD-3067-3, DD-3067-4, DD-3067-8, DD-3067-9, DD-3067-11, DD-3067-13, DD-3067-15)

Number of Respondents: 850.

Responses per Respondent: 8.

Annual Responses: 6,800.

Average Burden per Response: 15 hours.

Annual Burden Hours: 102,000 hours.

DD-3067-14—Smart Notice of Withdrawal

Number of Respondents: 50.

Responses per Respondent: 1.

Annual Responses: 50.

Average Burden per Response: 1 hour.

Annual Burden Hours: 50 hours.

Total Number of Respondents: 2,800 (Some respondents complete more than one collection instrument).

Total Annual Responses: 10,750.

Total Annual Burden Hours: 129,225.

Needs and Uses: SMART is designed to increase the number of new civilian science, technology, engineering, and mathematics (STEM) entrants to the DoD. Additionally, the SMART Program develops and retains current DoD civilian STEM employees that are critical to the national security functions of the Department of Defense and are needed in the Department of Defense workforce. SMART awards scholarships, ranging from 1.5 to 5 years, to undergraduate and graduate level students pursuing a degree in one of 21 technical disciplines. Upon graduation, scholars fulfill a service commitment with the DoD facility that nominated the scholar for an award (the sponsoring facility, or SF). The information collection activity under review is a statutory and functional requirement necessary to administer the scholarship program.

Affected Public: Individuals or households.

Frequency: As required.

Respondent's Obligation: Voluntary.

OMB Desk Officer: Ms. Jasmeet Seehra.

You may also submit comments and recommendations, identified by Docket ID number and title, by the following method:

• Federal eRulemaking Portal: http://www.regulations.gov. Follow the instructions for submitting comments.

Instructions: All submissions received must include the agency name, Docket ID number, and title for this Federal Register document. The general policy for comments and other submissions from members of the public is to make these submissions available for public viewing on the internet at http://www.regulations.gov as they are received without change, including any personal identifiers or contact information.

DOD Clearance Officer: Ms. Angela James.

Requests for copies of the information collection proposal should be sent to Ms. James at whs.mc-alex.esd.mbx.dd-dod-information-collections@mail.mil.

Dated: July 23, 2019.
Aaron T. Siegel,
Alternate OSD Federal Register Liaison Officer, Department of Defense.

[FR Doc. 2019-15950 Filed 7-26-19; 8:45 am]

BILLING CODE 5001-06-P